DEPARTMENT OF COMMERCE

International Trade Administation

[A-427-801, A-428-801, A-475-801, A-588-804, A-559-801, A-412-801]

Antifriction Bearings (Other Than Tapered Roller Bearings) and Parts Thereof From France, Germany, Italy, Japan, Singapore, and The United Kingdom: Preliminary Results of Antidumping Duty Administrative Reviews and Partial Rescission of Administrative Reviews

AGENCY: Import Administration, International Trade Administration, Department of Commerce.

ACTION: Notice of Preliminary Results of Antidumping Duty Administrative Reviews, and Partial Rescission of Administrative Reviews.

SUMMARY: In response to requests from interested parties, the Department of Commerce is conducting administrative reviews of the antidumping duty orders on antifriction bearings (other than tapered roller bearings) and parts thereof from France, Germany, Italy, Japan, Singapore, and the United Kingdom. The merchandise covered by these orders are ball bearings and parts thereof, and spherical plain bearings and parts thereof. The reviews cover 40 manufacturers/exporters. The period of review is May 1, 2000, through April 30, 2001.

We have preliminarily determined that sales have been made below normal value by various companies subject to these reviews. If these preliminary results are adopted in our final results of administrative reviews, we will instruct the Customs Service to assess antidumping duties on all appropriate entries.

We invite interested parties to comment on these preliminary results. Parties who submit comments in these proceedings are requested to submit with each argument (1) a statement of the issue and (2) a brief summary of the argument.

EFFECTIVE DATE: April 10, 2002.

FOR FURTHER INFORMATION CONTACT: Please contact the appropriate case analysts for the various respondent firms, as listed below, at Import Administration, International Trade Administration, U.S. Department of Commerce, Washington, D.C. 20230; telephone: (202) 482-4733.

France

Dmitry Vladimirov (SKF), Lyn Johnson (Bearing Discount Int. - Germany, Rodamientos Rovi - Venezuela, Rovi-Valencia - Venezuela, Rovi-Marcay - Venezuela, RIRSA - Mexico, DCD - Northern Ireland, EuroLatin Ex. Services - United Kingdom (collectively, Resellers)), or Mark Ross.

Germany

Dunyako Ahmadu (Paul Mueller, FAG), Thomas Schauer (Torrington Nadellager), Lyn Johnson (Resellers), Mark Ross, or Richard Rimlinger.

Italy

David Dirstine (SKF), Janis Kalnins (FAG), Lyn Johnson (Resellers), Mark Ross, or Richard Rimlinger.

Japan

Edythe Artman (Nachi, Isuzu), Minoo Hatten (NSK), Lyn Johnson (Koyo, Asahi), Katja Kravetsky (Nankai Seiko), Janis Kalnins (NPBS), David Dirstine (NTN), George Callen (Osaka Pump, Takeshita), Mark Ross, or Richard Rimlinger.United Kingdom Thomas Schauer (RHP/NSK), Dmitry Vladimirov (Barden), Katja Kravetsky (FAG), Mark Ross, or Richard Rimlinger.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR Part 351 (2001).

Background

On May 15, 1989, the Department published in the Federal Register (54 FR 20909) the antidumping duty orders on ball bearings and parts thereof (BBs) from France, Germany, Italy, Japan, Singapore, and the United Kingdom and on spherical plain bearings and parts thereof (SPBs) from France. On June 19, 2001, in accordance with 19 CFR 351.213(b), we published a notice of initiation of administrative reviews of these orders (66 FR 32934).

Subsequent to the initiation of these reviews, we received timely withdrawals of the requests we had received for review of SNR (France), NMB (Singapore), and SNFA (UK) with respect to BBs and SKF (France) with respect to SPBs. Because there were no other requests for review of the above-named firms, we are rescinding the reviews with respect to these companies in accordance with 19 CFR 351.213(d). Because there is no other request for reviews of the orders on BBs from Singapore and on SPBs from France, we are rescinding the reviews of these orders in full.

Scope of Reviews

The products covered by these reviews are antifriction bearings (other than tapered roller bearings) and parts thereof (AFBs) and constitute the following merchandise:

Ball Bearings and Parts Thereof: These products include all AFBs that employ balls as the rolling element. Imports of these products are classified under the following categories: antifriction balls, ball bearings with integral shafts, ball bearings (including radial ball bearings) and parts thereof, and housed or mounted ball bearing units and parts thereof.

Imports of these products are classified under the following Harmonized Tariff Schedules (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

The size or precision grade of a bearing does not influence whether the bearing is covered by the order. For a listing of scope determinations which pertain to the orders, see the “Scope Determinations Memorandum” (Scope Memo) from the Antifriction Bearings Team to Laurie Parkhill, dated April 1, 2002, and hereby adopted by this notice. The Scope Memo is on file in the Central Records Unit (CRU), Main Commerce Building, Room B-099, in the General Issues record (A-100-001) for the 99/00 reviews.

Although the HTSUS item numbers above are provided for convenience and customs purposes, written descriptions of the scope of these proceedings remain dispositive.

Verification

As provided in section 782(i) of the Act, we verified information provided by certain respondents using standard verification procedures, including on-site inspection of the manufacturers' facilities, the examination of relevant sales and financial records, and the selection of original documentation containing relevant information. Our verification results are outlined in the public versions of the verification reports, which are on file in the CRU. We will also be verifying certain companies (Barden Corporation and SKF Italy) shortly after publication of these preliminary results of reviews.

Use of Facts Available

In accordance with section 776(a) of the Act, we preliminarily determine that the use of facts available as the basis for the weighted-average dumping margin is appropriate for Isuzu Motors, Ltd. (Japan). We also preliminarily determine that the use of facts available is appropriate with respect to three of the Resellers (Bearing Discount International, DCD, and RIRSA) in the reviews covering BBs from France, Germany, and Italy. None of the above firms responded, or responded fully, to our antidumping questionnaire (see the analysis memoranda to the file for these firms dated April 1, 2002) and, consequently, we find that they have not provided “information that has been requested by the administering authority” (section 776(a)(1) of the Act). Although RIRSA claimed that it did not export subject merchandise during the period of review, we found that, based on our examination of the Customs Service database for imports of entered merchandise, RIRSA had shipped merchandise that is classified under the HTSUS subheadings for BBs. Unless RIRSA provides us with more details about the shipped merchandise for the final results of this administrative review, we will continue to use facts available as the basis for the weighted-average dumping margin for RIRSA.

In accordance with section 776(b) of the Act, we are making an adverse inference in our application of the facts available. This is necessary because the above firms have not acted to the best of their ability in providing us with relevant information which is under their control. As adverse facts available for these firms, we have applied the highest rate we have calculated for any companies under review in any segment of the relevant proceedings (i.e., BBs from Germany, France, Italy, and Japan). We have selected these rates because they are sufficiently high as to reasonably assure that the firms named above do not obtain a more favorable result by failing to cooperate. Specifically, these rates are 66.18 percent for BBs from France, 70.41 percent for BBs from Germany, 68.29 percent for BBs from Italy, and 73.55 percent for BBs from Japan.

Section 776(c) of the Act provides that the Department shall, to the extent practicable, corroborate secondary information used for facts available by reviewing independent sources reasonably at its disposal. Information from a prior segment of the proceeding or from another company in the same proceeding constitutes secondary information. The Statement of Administrative Action accompanying the URAA, H.R. Doc. 103-316, at 870 (1994) (SAA), provides that “corroborate” means that the Department will satisfy itself that the secondary information to be used has probative value. SAA at 870. As explained in Tapered Roller Bearings, Four Inches or Less in Outside Diameter, and Components Thereof, from Japan; Preliminary Results of Antidumping Duty Administrative Reviews and Partial Termination of Administrative Reviews, 61 FR 57391, 57392 (November 6, 1996) (Tapered Roller Bearings and Parts Thereof, Finished and Unfinished, from Japan), to corroborate secondary information, the Department will examine, to the extent practicable, the reliability and relevance of the information used. However, unlike other types of information, such as input costs or selling expenses, there are no independent sources for calculated dumping margins. The only source for margins is administrative determinations. Thus, with respect to an administrative review, if the Department chooses as facts available a calculated dumping margin from a prior segment of the proceeding, it is not necessary to question the reliability of the margin for that time period.

With respect to the relevance aspect of corroboration, however, the Department will consider information reasonably at its disposal as to whether there are circumstances that would render a margin not relevant. Where circumstances indicate that the selected margin is not appropriate as adverse facts available, the Department will disregard the margin and determine an appropriate margin (see Fresh Cut Flowers from Mexico; Final Results of Antidumping Duty Administrative Review, 61 FR 6812 (February 22, 1996), where the Department disregarded the highest dumping margin as best information available because the margin was based on another company's uncharacteristic business expense resulting in an unusually high margin). Further, in accordance with F.LII De Cecco Di Filippo Fara S. Martino S.p.A. v. United States, No. 99-1318 (CAFC June 16, 2000), we also examine whether information on the record would support the selected rates as reasonable facts available.

We find that the above rates that we are using for these preliminary results do have probative value. We compared the selected margins to margins calculated on individual sales of the merchandise in question made by companies covered by the instant review. We found a substantial number of sales, made in the ordinary course of trade and in commercial quantities, with dumping margins near or exceeding the rates under consideration. (The details of this analysis are contained in the proprietary versions of the analysis memoranda for the covered firms dated April 1, 2002.) This evidence supports an inference that the selected rates might reflect the actual dumping margins for the firms in question.

Furthermore, there is no information on the record that demonstrates that the rates selected are inappropriate total adverse facts-available rates for the companies in question. On the contrary, our existing record supports the use of these rates as the best indications of the export prices and dumping margins for these firms as explained in our April 1, 2002, memoranda. Therefore, we consider the selected rates to have probative value with respect to the firms in question in these reviews and to reflect appropriate adverse inferences.

In accordance with section 776(a) of the Act, we have also applied partial facts available to Nankai Seiko (Japan). Late in the review, while doing a cursory review of the website of one of Nankai Seiko's customers, we learned of a possible connection between the two companies, and asked Nankai Seiko further questions in a supplemental questionnaire. From Nankai Seiko's response, we learned of its consignment arrangement with this company. The antidumping questionnaire instructs respondents specifically to describe any consignment arrangements and the functions of the consignee. Nankai Seiko did not report its consignment sales to the United States as constructed export-price (CEP) sales. Section 776(a)(2) of the Act provides that, if an interested party (A) withholds information that has been requested by the Department, (B) fails to provide such information in a timely manner or in the form or manner requested, subject to subsections 782(c)(1) and (e) of the Act, (C) significantly impedes a determination under the antidumping statute, or (D) provides such information but the information cannot be verified, the Department shall, subject to subsection 782(d) of the Act, use facts otherwise available in reaching the applicable determination. Since Nankai Seiko neither mentioned its consignment arrangements nor provided any necessary CEP data associated with such sales, we have preliminarily determined that Nankai Seiko did not act to the best of its ability to provide information and have applied adverse facts available to its consignment sales, pursuant to section 776(b) of the Act. As adverse facts available, we selected the highest rate we have calculated for any companies under review in any segment of the relevant proceedings (i.e., 73.55 percent for BBs from Japan) and, in our calculation of Nankai's weighted-average margin, applied this rate to the value of the consignment sales.

In addition, we applied partial facts available to Asahi. In our original questionnaire and in a letter dated March 18, 2002, we requested that Asahi provide constructed value (CV) data for all of its U.S. products. Although Asahi provided significantly more CV data in response to our March 18, 2002, letter, it did not provide all of the requested data. Therefore, we have preliminarily concluded that Asahi has not acted to the best of its ability to comply with our request and we have made an adverse inference for applying facts available. When we could not find an appropriate identical or similar home-market match for sales of U.S. products and no CV was available for determining normal value, we used 73.55 percent as the transaction-specific margin, which is the highest rate we have calculated for any Japanese companies under review in any segment of the relevant proceedings (see Antidumping Duty Orders: Ball Bearings, Cylindrical Roller Bearings and Spherical Plain Bearings, and Parts Thereof From Japan, 54 FR 20904 (May 15, 1989)). We have selected this rate because it is sufficiently higher than the average transaction-specific margin for other sales by Asahi in which we used CV to determine normal value.

Export Price and Constructed Export Price

For the price to the United States, we used export price or CEP as defined in sections 772(a) and (b) of the Act, as appropriate. Due to the extremely large volume of transactions that occurred during the period of review and the resulting administrative burden involved in calculating individual margins for all of these transactions, we sampled CEP sales in accordance with section 777A of the Act. When a firm made more than 2,000 CEP sales transactions to the United States for merchandise subject to a particular order, we reviewed CEP sales that occurred during sample weeks. We selected one week from each two-month period in the review period, for a total of six weeks, and analyzed each transaction made in those six weeks. The sample weeks are as follows: June 11-17, 2000; August 13-19, 2000; September 24-30, 2000; October 29-November 4, 2000; December 31, 2000-January 6, 2001; and March 18-24, 2001. We reviewed all export-price sales transactions made during the period of review.

We calculated export price and CEP based on the packed F.O.B., C.I.F., or delivered price to unaffiliated purchasers in, or for exportation to, the United States. We made deductions, as appropriate, for discounts and rebates. We also made deductions for any movement expenses in accordance with section 772(c)(2)(A) of the Act.

In accordance with section 772(d)(1) of the Act and the SAA, at 823-824, we calculated the CEP by deducting selling expenses associated with economic activities occurring in the United States, including commissions, direct selling expenses, indirect selling expenses, and repacking expenses in the United States. When appropriate, in accordance with section 772(d)(2) of the Act, we also deducted the cost of any further manufacture or assembly, except where we applied the special rule provided in section 772(e) of the Act (see below). Finally, we made an adjustment for profit allocated to these expenses in accordance with section 772(d)(3) of the Act.

With respect to subject merchandise to which value was added in the United States prior to sale to unaffiliated U.S. customers, e.g., parts of bearings that were imported by U.S. affiliates of foreign exporters and then further processed into other products which were then sold to unaffiliated parties, we determined that the special rule for merchandise with value added after importation under section 772(e) of the Act applied to all firms, except NPBS, that added value in the United States.

Section 772(e) of the Act provides that, when the subject merchandise is imported by an affiliated person and the value added in the United States by the affiliated person is likely to exceed substantially the value of the subject merchandise, we shall determine the CEP for such merchandise using the price of identical or other subject merchandise if there is a sufficient quantity of sales to provide a reasonable basis for comparison and we determine that the use of such sales is appropriate. If there is not a sufficient quantity of such sales or if we determine that using the price of identical or other subject merchandise is not appropriate, we may use any other reasonable basis to determine the CEP.

To determine whether the value added is likely to exceed substantially the value of the subject merchandise, we estimated the value added based on the difference between the averages of the prices charged to the first unaffiliated purchaser for the merchandise as sold in the United States and the averages of the prices paid for the subject merchandise by the affiliated purchaser. Based on this analysis, we determined that the estimated value added in the United States by all firms, with the exception of NPBS, accounted for at least 65 percent of the price charged to the first unaffiliated customer for the merchandise as sold in the United States. (See 19 CFR 351.402(c) for an explanation of our practice on this issue.) Therefore, we preliminarily determine that, for the firms other than NPBS, the value added is likely to exceed substantially the value of the subject merchandise. Also, for those companies, we determine that there was a sufficient quantity of sales remaining to provide a reasonable basis for comparison and that the use of these sales is appropriate. Accordingly, for purposes of determining dumping margins for the sales subject to the special rule, we have used the weighted-average dumping margins calculated on sales of identical or other subject merchandise sold to unaffiliated persons.

For NPBS, we determined that the special rule did not apply because the value added in the United States did not exceed substantially the value of the subject merchandise. Consequently, NPBS submitted a complete response to our further-manufacturing questionnaire which included the costs of the further processing performed by its U.S. affiliate. Since the majority of NPBS's products sold in the United States were further processed, we analyzed all sales.

No other adjustments to export price or CEP were claimed or allowed.

Normal Value

Based on a comparison of the aggregate quantity of home-market and U.S. sales and absent any information that a particular market situation in the exporting country did not permit a proper comparison, we determined, with the exception of Takeshita Seiko Co., that the quantity of foreign like product sold by all respondents in the exporting country was sufficient to permit a proper comparison with the sales of the subject merchandise to the United States, pursuant to section 773(a) of the Act. Each company's quantity of sales in its home market was greater than five percent of its sales to the U.S. market. Therefore, in accordance with section 773(a)(1)(B)(i) of the Act, we based normal value on the prices at which the foreign like products were first sold for consumption in the exporting country.

With respect to Takeshita Seiko Co., we found that, although its home market was viable under section 773(a)(1) of the Act, the firm made no sales of foreign like product in its home market that we were able to compare to its U.S. sales. Therefore, we based normal value on constructed value.

Due to the extremely large number of transactions that occurred during the period of review and the resulting administrative burden involved in examining all of these transactions, we sampled sales to calculate normal value in accordance with section 777A of the Act. When a firm had more than 2,000 home-market sales transactions on a country-specific basis, we used sales in sample months that corresponded to the sample weeks that we selected for U.S. CEP sales, sales in the month prior to the period of review, and sales in the month following the period of review. The sample months were March, June, August, September, and November of 2000, and January, March and May of 2001.

With respect to the sample months, Koyo reported home-market sales for the incorrect sample months of October and December. Although our June 28, 2001, questionnaire had listed the incorrect months, we corrected this error in a letter dated June 29, 2001. For purposes of these preliminary results, we used Koyo's reported months, March, June, August, September, October, and December of 2000, and March and May of 2001, as the sample months. We will request from Koyo revised home-market sales data with the correct sample months for use in the final results.

We used sales to affiliated customers only where we determined such sales were made at arm's-length prices, i.e., at prices comparable to prices at which the firm sold identical merchandise to unaffiliated customers.

Because we disregarded below-cost sales in accordance with section 773(b) of the Act in the last completed review with respect to Asahi, Barden, Koyo, Nachi, NPBS, NSK, NTN, and NSK/RHP, SKF France, and SKF Italy (see Antifriction Bearings (Other Than Tapered Roller Bearings) and Parts Thereof From France, Germany, Italy, Japan, Romania, Singapore, Sweden and the United Kingdom; Final Results of Administrative Reviews and Revocation of Orders in Part, 65 FR 49219, 49221 (August 11, 2000), or Antifriction Bearings (Other Than Tapered Roller Bearings) and Parts Thereof From France, Germany, Italy, Japan, Sweden and the United Kingdom; Final Results of Administrative Reviews and Revocation of Orders in Part, 66 FR 36551, 36552 (July 12, 2001)), we had reasonable grounds to believe or suspect that sales of the foreign like product under consideration for the determination of normal value in these reviews may have been made at prices below the cost of production (COP) as provided by section 773(b)(2)(A)(ii) of the Act. Therefore, pursuant to section 773(b)(1) of the Act, we conducted COP investigations of sales by these firms in the home market. Also, we received allegations in proper form that Nankai Seiko and Paul Mueller had made home-market sales below their COP and we conducted COP investigations of home-market sales of these firms as well.

In accordance with section 773(b)(3) of the Act, we calculated the COP based on the sum of the costs of materials and fabrication employed in producing the foreign like product, the selling, general and administrative (SG&A) expenses, and all costs and expenses incidental to packing the merchandise. In our COP analysis, we used the home-market sales and COP information provided by each respondent in its questionnaire responses.

After calculating the COP, in accordance with section 773(b)(1) of the Act, we tested whether home-market sales of the foreign like product were made at prices below the COP within an extended period of time in substantial quantities and whether such prices permitted the recovery of all costs within a reasonable period of time. We compared model-specific COPs to the reported home- market prices less any applicable movement charges, discounts, and rebates.

Pursuant to section 773(b)(2)(C) of the Act, when less than 20 percent of a respondent's sales of a given product were at prices less than the COP, we did not disregard any below-cost sales of that product because the below-cost sales were not made in substantial quantities within an extended period of time. When 20 percent or more of a respondent's sales of a given product during the period of review were at prices less than the COP, we disregarded the below-cost sales because they were made in substantial quantities within an extended period of time pursuant to sections 773(b)(2)(B) and (C) of the Act and because, based on comparisons of prices to weighted-average COPs for the period of review, we determined that these sales were at prices which would not permit recovery of all costs within a reasonable period of time in accordance with section 773(b)(2)(D) of the Act. Based on this test, we disregarded below-cost sales with respect to all of the above-mentioned companies.

We compared U.S. sales with sales of the foreign like product in the home market. We considered all non-identical products within a bearing family to be equally similar. As defined in the questionnaire, a bearing family consists of all bearings which are the foreign like product that are the same in the following physical characteristics: load direction, bearing design, number of rows of rolling elements, precision rating, dynamic load rating, outer diameter, inner diameter, and width.

Home-market prices were based on the packed, ex-factory, or delivered prices to affiliated or unaffiliated purchasers. When applicable, we made adjustments for differences in packing and for movement expenses in accordance with sections 773(a)(6)(A) and (B) of the Act. We also made adjustments for differences in cost attributable to differences in physical characteristics of the merchandise pursuant to section 773(a)(6)(C)(ii) of the Act and for differences in circumstances of sale in accordance with section 773(a)(6)(C)(iii) of the Act and 19 CFR 351.410. For comparisons to export price, we made circumstances-of-sale adjustments by deducting home-market direct selling expenses from and adding U.S. direct selling expenses to normal value. For comparisons to CEP, we made circumstances-of-sale adjustments by deducting home-market direct selling expenses from normal value. We also made adjustments, when applicable, for home-market indirect selling expenses to offset U.S. commissions in export-price and CEP calculations.

In accordance with section 773(a)(1)(B)(i) of the Act, we based normal value, to the extent practicable, on sales at the same level of trade as the export price or CEP. If normal value was calculated at a different level of trade, we made an adjustment, if appropriate and if possible, in accordance with section 773(a)(7) of the Act. (See Level of Trade section below.)

In accordance with section 773(a)(4) of the Act, we used constructed value as the basis for normal value when there were no usable sales of the foreign like product in the comparison market. We calculated constructed value in accordance with section 773(e) of the Act. We included the cost of materials and fabrication, SG&A expenses, and profit in the calculation of constructed value. In accordance with section 773(e)(2)(A) of the Act, we based SG&A expenses and profit on the amounts incurred and realized by each respondent in connection with the production and sale of the foreign like product in the ordinary course of trade for consumption in the home market.

When appropriate, we made adjustments to constructed value in accordance with section 773(a)(8) of the Act and 19 CFR 351.410 for circumstances-of-sale differences and level-of-trade differences. For comparisons to export price, we made circumstances-of-sale adjustments by deducting home-market direct selling expenses from and adding U.S. direct selling expenses to normal value. For comparisons to CEP, we made circumstances-of-sale adjustments by deducting home-market direct selling expenses from normal value. We also made adjustments, when applicable, for home-market indirect selling expenses to offset U.S. commissions in export-price and CEP comparisons.

When possible, we calculated constructed value at the same level of trade as the export price or CEP. If constructed value was calculated at a different level of trade, we made an adjustment, if appropriate and if possible, in accordance with sections 773(a)(7) and (8) of the Act. (See Level of Trade section below.)

Level of Trade

To the extent practicable, we determined normal value for sales at the same level of trade as the U.S. sales (either export price or CEP). When there were no sales at the same level of trade, we compared U.S. sales to home-market sales at a different level of trade. The normal-value level of trade is that of the starting-price sales in the home market. When normal value is based on constructed value, the level of trade is that of the sales from which we derived SG&A and profit.

To determine whether home-market sales are at a different level of trade than U.S. sales, we examined stages in the marketing process and selling functions along the chain of distribution between the producer and the unaffiliated customer. If the comparison-market sales were at a different level of trade from that of a U.S. sale and the difference affected price comparability, as manifested in a pattern of consistent price differences between the sales on which normal value is based and comparison-market sales at the level of trade of the export transaction, we made a level-of-trade adjustment under section 773(a)(7)(A) of the Act. See Notice of Final Determination of Sales at Less Than Fair Value: Certain Cut-to-Length Carbon Steel Plate from South Africa, 62 FR 61731 (November 19, 1997).

For a company-specific description of our level-of-trade analysis for these preliminary results, see Memorandum to Laurie Parkhill from Antifriction Bearings Team regarding Level of Trade, dated April 1, 2002, on file in the CRU, Room B-099.

Preliminary Results of Reviews

As a result of our reviews, we preliminarily determine the following percentage weighted--average dumping margins on BBs for the period May 1, 2000, through April 30, 2001:

FRANCE
Company | Margin
SKF | 8.09
Bearing Discount Int | 66.18
Rodamientos Rovi | (2)
Rovi Valencia | (2)
Rovi-Marcay | (2)
RIRSA | 66.18
DCD | 66.18
EuroLatin Ex. Services | (2)

GERMANY
Company | Margin
FAG | 0.33
Torrington | 1.22
Bearing Discount Int | 70.41
Paul Mueller | 0.04
Rodamientos Rovi | (2)
Rovi Valencia | (2)
Rovi Marcay | (2)
RIRSA | 70.41
DCD | 70.41
EuroLatin Ex. Services | (2)

ITALY
Company | Margin
FAG | 2.52
SKF | 3.70
Bearing Discount Int. | 68.29
Rodamientos Rovi | (2)
Rovi Valencia | (2)
Rovi Marcay | (2)
RIRSA | 68.29
DCD | 68.29
EuroLatin Ex. Services | (2)

JAPAN
Company | Margin
Koyo | 7.70
NSK Ltd. | 12.22
NTN | 9.13
Osaka Pump | 0.98
Takeshita | 2.88
Asahi Seiko | 7.22
Isuzu Motors | 73.55
Nachi-Fujikoshi9.52
Nankai Seiko | 1.13
Nippon Pillow Block | 4.75

UNITED KINGDOM
Company | Margin
NSK/RHP Bearings | 17.89
FAG | (1)
Barden | 5.26

¹ No shipments or sales subject to this review. The deposit rate remains unchanged from the last relevant segment of the proceeding in which the firm had shipments/sales.

² No shipments or sales subject to this review. The firm has no individual rate from any segment of this proceeding.

Resellers

With respect to EuroLatin Export Services Limited, Rodamientos Rovi C.A., Rovi Marcay, and Rovi Valencia and the reviews of France, Germany, and Italy, we have determined that these respondents had no shipments during the period of review. We have based our determination on letters from these respondents indicating that they had no shipments and on our examination of the Customs Service database for imports of entered merchandise involving these respondents. Based upon the record and our methodology of reviewing Customs Service information, we have determined that the respondents at issue had no shipments during the period of review, and we have not established margins for use as future cash-deposit rates.

It is impossible to establish with certainty, however, from Customs Service data the accuracy of respondents' statements. Therefore, we will instruct the Customs Service at the time of liquidation to review all documentation for suspended entries of subject merchandise. If the Customs Service finds that any of the four above-named “no-shipment” respondents in fact had shipments of subject merchandise during the period of review, we will instruct the Customs Service to apply a facts-available rate to such respondents based on the adverse facts-available rate we have determined for the applicable country of origin (France, Germany, or Italy).

Comments

Any interested party may request a hearing within 21 days of the date of publication of this notice. A general-issues hearing, if requested, and any hearings regarding issues related solely to specific countries, if requested, will be held at the main Commerce Department building at a time and location to be determined.

Issues raised in hearings will be limited to those raised in the respective case and rebuttal briefs. Case briefs from interested parties and rebuttal briefs, limited to the issues raised in the respective case briefs, may be submitted not later than the dates shown below for general issues and the respective country-specific cases. Parties who submit case or rebuttal briefs in these proceedings are requested to submit with each argument (1) a statement of the issue, and (2) a brief summary of the argument with an electronic version included.

Case | Briefs due | Rebuttals due
General Issues | May 6, 2002 | May 13, 2002
Germany | May 6, 2002 | May 13, 2002
Italy | May 7, 2002 | May 14, 2002
United Kingdom | May 7, 2002 | May 14, 2002
France | May 8, 2002 | May 15, 2002
Japan | May 8, 2002 | May 15, 2002

The Department will publish the final results of these administrative reviews, including the results of its analysis of issues raised in any such written briefs. The Department will issue final results of these reviews within 120 days of publication of these preliminary results.

Assessment Rates

The Department shall determine, and the Customs Service shall assess, antidumping duties on all appropriate entries. In accordance with 19 CFR 351.212(b)(1), we have calculated, whenever possible, an exporter/importer (or customer)-specific assessment rate or value for subject merchandise.

Export-Price Sales

With respect to export-price sales, for these preliminary results we divided the total dumping margins (calculated as the difference between normal value and export price) for each exporter's importer/customer by the total number of units the exporter sold to that importer/customer. We will direct the Customs Service to assess the resulting per-unit dollar amount against each unit of merchandise in each of that importer's/customer's entries under the relevant order during the review period.

Constructed Export Price Sales

For CEP sales (sampled and non-sampled), we divided the total dumping margins for the reviewed sales by the total entered value of those reviewed sales for each importer. We will direct the Customs Service to assess the resulting percentage margin against the entered customs values for the subject merchandise on each of that importer's entries under the relevant order during the review period (see 19 CFR 351.212(a)).

Cash-Deposit Requirements

To calculate the cash-deposit rate for each respondent (i.e., each exporter and/or manufacturer included in these reviews), we divided the total dumping margins for each company by the total net value for that company's sales of merchandise during the review period subject to each order.

In order to derive a single deposit rate for each order for each respondent, we weight-averaged the export-price and CEP deposit rates (using the export price and CEP, respectively, as the weighting factors). To accomplish this when we sampled CEP sales, we first calculated the total dumping margins for all CEP sales during the review period by multiplying the sample CEP margins by the ratio of total days in the review period to days in the sample weeks. We then calculated a total net value for all CEP sales during the review period by multiplying the sample CEP total net value by the same ratio. Finally, we divided the combined total dumping margins for both export-price and CEP sales by the combined total value for both export-price and CEP sales to obtain the deposit rate.

Entries of parts incorporated into finished bearings before sales to an unaffiliated customer in the United States will receive the respondent's deposit rate applicable to the order.

Furthermore, the following deposit requirements will be effective upon publication of the notice of final results of administrative reviews for all shipments of AFBs entered, or withdrawn from warehouse, for consumption on or after the date of publication, as provided by section 751(a)(1) of the Act: (1) the cash-deposit rates for the reviewed companies will be the rates established in the final results of reviews; (2) for previously reviewed or investigated companies not listed above, the cash-deposit rate will continue to be the company-specific rate published for the most recent period; (3) if the exporter is not a firm covered in this review, a prior review, or the less-than-fair-value investigation, but the manufacturer is, the cash-deposit rate will be the rate established for the most recent period for the manufacturer of the merchandise; and (4) the cash-deposit rate for all other manufacturers or exporters will continue to be the “All Others” rate for the relevant order made effective by the final results of review published on July 26, 1993 (see Antifriction Bearings (Other Than Tapered Roller Bearings) and Parts Thereof From France, et al; Final Results of Antidumping Duty Administrative Reviews and Revocation in Part of an Antidumping Duty Order, 58 FR 39729 (July 26, 1993), and, for BBs from Italy, see Antifriction Bearings (Other Than Tapered Roller Bearings) and Parts Thereof From France, et al; Final Results of Antidumping Duty Administrative Reviews, Partial Termination of Administrative Reviews, and Revocation in Part of Antidumping Duty Orders, 61 FR 66472 (December 17, 1996)). These rates are the “All Others” rates from the relevant less-than-fair-value investigations.

These deposit requirements, when imposed, shall remain in effect until publication of the final results of the next administrative reviews.

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

We are issuing and publishing these determinations in accordance with sections 751(a)(1) and 777(i)(1) of the Act.

Dated: April 1, 2002
Faryar Shirzad,
Assistant Secretary for Import Administration.

[FR Doc. 02-8559 Filed 4-9-02; 8:45 am]

BILLING CODE 3510-DS-S